DEPARTMENT OF TRANSPORTATION

Federal Highway Administration

Notice of Final Federal Agency Actions on Proposed Highway in California

AGENCY: Federal Highway Administration (FHWA), Department of Transportation (DOT).

ACTION: Notice of Limitation on Claims for Judicial Review of Actions by the California Department of Transportation (Caltrans), pursuant to 23 U.S.C. 327.

SUMMARY: The FHWA, on behalf of Caltrans, is issuing this notice to announce actions taken by Caltrans that are final. The actions relate to a proposed highway project, the San Antonio Creek Bridge Scour Mitigation Project located approximately 12 miles north of the City of Lompoc in the County of Santa Barbara, California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before January 13, 2020. If the Federal law that authorizes judicial review of a claim provides a time period of less than 150 days for filing such claim, then that shorter time period still applies.

FOR FURTHER INFORMATION CONTACT: For Caltrans, Matt Fowler, Branch Chief, Central Region Environmental, Caltrans District 5, 50 Higuera Street, San Luis Obispo, CA 93401, 805-542-4603, matt.c.fowler@dot.ca.gov, Monday-Friday, 9:00 a.m.-5:00 p.m. PDT.

SUPPLEMENTARY INFORMATION: Effective July 1, 2007, the Federal Highway Administration (FHWA) assigned, and the California Department of Transportation (Caltrans) assumed, environmental responsibilities for this project pursuant to 23 U.S.C. 327. Notice is hereby given that the Caltrans, have taken final agency actions subject to 23 U.S.C. 139(l)(1) by issuing licenses, permits, and approvals for the following highway project in the State of California: San Jose Creek Bridge Scour Mitigation Project on State Route 1 at postmile 33.1, approximately 12 miles north from the City of Lompoc in the County of Santa Barbara, California. Caltrans proposes to prevent further scour damage on the southwestern bank of the San Antonio Creek by extending the existing erosion control features in order to protect the foundations of San Antonio Creek Bridge. Project activities will occur in an area of less than one acre, within existing Caltrans right-of-way and outside of the creek channel. FHWA project reference number P001(610). The actions by the Federal agencies, and the laws under which such actions were taken, are described in the Final Environmental Assessment (FEA) with Finding of No Significant Impact (FONSI) for the project, approved on June 12, 2019 and in other documents in Caltrans' project records. The FEA, FONSI and other project records are available by contacting Caltrans at the addresses provided above.

This notice applies to all Federal agency decisions as of the issuance date of this notice and all laws under which such actions were taken, including but not limited to:

1. National Environmental Policy Act (NEPA) [42 U.S.C. 4321-4335]

2. The National Historic Preservation Act (NHPA) of 1966 [16 U.S.C. 470(f) et seq.]

3. Archaeological Resource Protection Act (ARPA) of 1977 [16 U.S.C. 470(aa)-470(ll)

4. Archaeological and Historic Preservation Act [16 U.S.C. 469-489(c)]

5. Native American Grave protection and Repatriation Act (NAGPRA) [25 U.S.C. 30001-3013]

6. Clean Water Act [33 U.S.C. 1344]

7. Wild and Scenic Rivers Act [16 U.S.C. 1271-1287]

8. Federal Endangered Species Act (FESA) [16 U.S.C. 1531-1543]

9. Migratory Bird Treaty Act [16 U.S.C. 760c-760g]

10. Invasive Species Executive Order 11988

(Catalog of Federal Domestic Assistance Program Number 20.205, Highway Planning and Construction. The regulations implementing Executive Order 12372 regarding intergovernmental consultation on Federal programs and activities apply to this program.)

Authority: 23 U.S.C. 139(l)(1).

Issued on: August 12, 2019.
Tashia J. Clemons,
Director, Planning and Environment, Federal Highway Administration, Sacramento, California.

[FR Doc. 2019-17639 Filed 8-15-19; 8:45 am]

BILLING CODE 4910-RY-P